DEPARTMENT OF COMMERCE

International Trade Administration

Corporation for Travel Promotion (dba Brand USA)

AGENCY: International Trade Administration, U.S. Department of Commerce.

ACTION: Seeking applications from travel and tourism leaders from the restaurant industry for membership on the Board of Directors (Board) of the Corporation for Travel Promotion (dba Brand USA).

SUMMARY: The Department of Commerce is currently seeking additional applications from travel and tourism leaders from the restaurant sector for membership on the Board of Directors (Board) of the Corporation for Travel Promotion (dba Brand USA). The purpose of the Board is to guide the Corporation for Travel Promotion on matters relating to the promotion of the United States and communication of travel facilitation issues, among other tasks. On June 22, 2015, we published in the Federal Register a “Notice of an opportunity seeking applications from travel and tourism industry leaders from specific industries for membership on the Board of Directors of the Corporation for Travel Promotion (dba Brand USA)” (80 FR 35627), and on June 26, 2015, we published “The Department of Commerce is currently seeking applications from travel and tourism leaders from specific industries for membership on the Board of Directors (Board) of the Corporation for Travel Promotion (dba Brand USA) (80 FR 36767), announcing membership opportunities from four specific industry sectors on the Board of Directors of the Corporation for Travel Promotion. The application period closed on August 7, 2015. We are now reopening the application period to solicit additional applications specifically from the restaurant sector. This notice supplements the notices of June 22, 2015, and June 26, 2015.

There were insufficient applicants from the restaurant sector, and the open period for making application in this sector and this sector only is now reopened to solicit additional applicants.

Interested parties who have already applied for this position in response to those Federal Register notices do not need to re-apply.

DATES: All applications must be received by the National Travel and Tourism Office by close of business on September 18, 2015.

ADDRESSES: Electronic applications may be sent to: CTPBoard@trade.gov. Written applications can be submitted to Isabel Hill, Director, National Travel and Tourism Office, U.S. Department of Commerce, Mail Stop 10007, 1401 Constitution Avenue NW., Washington, DC 20230. Telephone: 202.482.0140. Email: Isabel.Hill@trade.gov.

FOR FURTHER INFORMATION CONTACT: Julie Heizer, Deputy Director, Industry Relations, National Travel and Tourism Office, Mail Stop 10003, 1401 Constitution Avenue NW., Washington, DC 20230. Telephone: 202.482.4904. Email: julie.heizer@trade.gov.

SUPPLEMENTARY INFORMATION:

Background: The Travel Promotion Act of 2009 (TPA) was signed into law by President Obama on March 4, 2010. The TPA established the Corporation for Travel Promotion (the Corporation), as a non-profit corporation charged with the development and execution of a plan to (A) provide useful information to those interested in traveling to the United States; (B) identify and address perceptions regarding U.S. entry policies; (C) maximize economic and diplomatic benefits of travel to the United States through the use of various promotional tools; (D) ensure that international travel benefits all States and the District of Columbia, and (E) identify opportunities to promote tourism to rural and urban areas equally, including areas not traditionally visited by international travelers.

The Corporation is governed by a Board of Directors, consisting of 11 members with knowledge of international travel promotion or marketing, broadly representing various regions of the United States. The TPA directs the Secretary of Commerce (after consultation with the Secretary of Homeland Security and the Secretary of State) to appoint the Board of Directors for the Corporation.

At this time, the Department will be selecting four individuals with the appropriate expertise and experience from specific sectors of the travel and tourism industry to serve on the Board as follows:

(A) 1 shall have appropriate expertise and experience in a city convention and visitors' bureau;

(B) 1 shall have appropriate expertise and experience in the restaurant industry;

(C) 1 shall have appropriate expertise and experience as an official in a State tourism office; and

(D) 1 shall have appropriate expertise and experience as an official in the hotel accommodations sector.

To be eligible for Board membership, individuals must have international travel and tourism marketing experience, be a current or former chief executive officer, chief financial officer, or chief marketing officer or have held an equivalent management position. Additional consideration will be given to individuals who have experience working in U.S. multinational entities with marketing budgets, and who are audit committee financial experts as defined by the Securities and Exchange Commission (in accordance with section 407 of PL 107-204 [15 U.S.C. 7265]). Individuals must be U.S. citizens, and in addition, cannot be federally-registered lobbyists or registered as a foreign agent under the Foreign Agents Registration Act of 1938, as amended.

Those selected for the Board must be able to meet the time and effort commitments of the Board.

Board members serve at the discretion of the Secretary of Commerce (who may remove any member of the Board for good cause). The terms of office of each member of the Board appointed by the Secretary shall be 3 years. Board members can serve a maximum of two consecutive full three-year terms. Board members are not considered Federal government employees by virtue of their service as a member of the Board and will receive no compensation from the Federal government for their participation in Board activities. Members participating in Board meetings and events may be paid actual travel expenses and per diem when away from their usual places of residence by Brand USA.

To be considered for appointment, please provide the following:

1. Name, title, and personal resume of the individual requesting consideration, including address, email address and phone number; and

2. A brief statement of why the person should be considered for appointment to the Board. This statement should also address the individual's relevant international travel and tourism marketing experience and indicate clearly the sector or sectors enumerated above in which the individual has the requisite expertise and experience. Individuals who have the requisite expertise and experience in more than one sector can be appointed for only one of those sectors. Appointments of members to the Board will be made by the Secretary of Commerce.

Dated: September 3, 2015.
Isabel M. Hill,
Director, National Travel and Tourism Office.

[FR Doc. 2015-22686 Filed 9-3-15; 4:15 pm]

BILLING CODE 3510-DR-P